SECURITIES AND EXCHANGE COMMISSION

In the Matter of BioMedical Technology Solutions Holdings, Inc., Chaolei Marketing and Finance Company, Clear-Lite Holdings, Inc., Encompass Group Affiliates, Inc. (n/k/a Re-Act Enterprises, Inc.), Hydron Technologies, Inc., Sun American Bancorp, and XenaCare Holdings, Inc.; File No. 500-1; Order of Suspension of Trading

June 24, 2014.

It appears to the Securities and Exchange Commission that there is a lack of current and accurate information concerning the securities of BioMedical Technology Solutions Holdings, Inc. because it has not filed any periodic reports since the period ended September 30, 2011.

It appears to the Securities and Exchange Commission that there is a lack of current and accurate information concerning the securities of Chaolei Marketing and Finance Company because it has not filed any periodic reports since the period ended September 30, 2010.

It appears to the Securities and Exchange Commission that there is a lack of current and accurate information concerning the securities of Clear-Lite Holdings, Inc. because it has not filed any periodic reports since the period ended January 31, 2011.

It appears to the Securities and Exchange Commission that there is a lack of current and accurate information concerning the securities of Encompass Group Affiliates, Inc. (n/k/a Re-Act Enterprises, Inc.) because it has not filed any periodic reports since the period ended March 31, 2011.

It appears to the Securities and Exchange Commission that there is a lack of current and accurate information concerning the securities of Hydron Technologies, Inc. because it has not filed any periodic reports since the period ended June 30, 2010.

It appears to the Securities and Exchange Commission that there is a lack of current and accurate information concerning the securities of Sun American Bancorp because it has not filed any periodic reports since the period ended September 30, 2009.

It appears to the Securities and Exchange Commission that there is a lack of current and accurate information concerning the securities of XenaCare Holdings, Inc. because it has not filed any periodic reports since the period ended March 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 24, 2014, through 11:59 p.m. EDT on July 8, 2014.

By the Commission.
Jill M. Peterson,
Assistant Secretary.

[FR Doc. 2014-15053 Filed 6-24-14; 11:15 am]

BILLING CODE 8011-01-P